DEPARTMENT OF THE INTERIOR

Fish and Wildlife Service

Draft Supplemental Environmental Impact Statement on the Translocation of Southern Sea Otters

AGENCY: Fish and Wildlife Service, Interior.

ACTION: Notice of availability.

SUMMARY: This notice advises the public that we, the U.S. Fish and Wildlife Service (Service), have prepared a draft Supplemental Environmental Impact Statement on the Translocation of Southern Sea Otters (draft SEIS), which is available for public review. The draft SEIS evaluates options for continuing, revising, or terminating the southern sea otter translocation program (52 FR 29754; August 11, 1987). The document describes the proposed action and other alternatives under consideration and discloses the direct, indirect, and cumulative environmental effects of each of the alternatives.

DATES: We will accept comments on this draft SEIS until January 5, 2006. Public hearings regarding this draft SEIS and associated proposed rule will be held in Santa Barbara, California, on November 1, 2005, and in Monterey, California, on November 3, 2005.

ADDRESSES: Individuals who would like a copy of this draft SEIS for review should contact Greg Sanders, U.S. Fish and Wildlife Service, Ventura Fish and Wildlife Office, 2493 Portola Road, Suite B, Ventura, California 93003-7726. The draft SEIS is also available on the Internet at http://ventura.fws.gov and at the California libraries listed below:

Ventura County Library.

Santa Barbara County Library.

Monterey County Library.

Public hearing locations will be announced in the Santa Barbara News Press and the Monterey Herald.

For how to submit your comments, please see “Public Comments Solicited” under SUPPLEMENTARY INFORMATION.

FOR FURTHER INFORMATION CONTACT: Greg Sanders, U.S. Fish and Wildlife Service, Ventura Fish and Wildlife Office, 2493 Portola Road, Suite B, Ventura, California 93003-7726 (telephone: 805/644-1766 x315; facsimile: 805/644-3958).

SUPPLEMENTARY INFORMATION: It is our intent that the draft SEIS be as accurate as possible. Therefore, we solicit comments or suggestions from the public, other concerned governmental agencies, the scientific community, industry, or any other interested party concerning this draft SEIS.

On July 27, 2000, we published a notice in the Federal Register (65 FR 46172) announcing our intent to prepare a supplement to our 1987 Final Environmental Impact Statement on the Translocation of Southern Sea Otters and inviting comments on the scope of the supplement. Comments submitted were considered and are reflected in the draft SEIS made available for comment through this notice.

Contrary to expectations and to the primary recovery objective of the program, the translocation of sea otters to San Nicolas Island has not resulted in an established population sufficient to repopulate other areas of the range should a catastrophic event affect the mainland population. Additionally, maintenance of a designated management (no-otter) zone has proven to be more difficult than anticipated and hinders recovery of the southern sea otter. The draft SEIS evaluates options for continuing, revising, or terminating the southern sea otter translocation program.

We consider six alternatives, including a No Action Alternative. Alternative 1 resumes implementation of the 1987 southern sea otter translocation program as originally defined. Alternative 2 resumes implementation of the 1987 southern sea otter translocation program but reduces the size of the management zone. Alternatives 3A, 3B, and 3C allow for the natural range expansion of southern sea otters through termination of the 1987 translocation program, including its associated translocation zone and management zone, but differ in the actions to be taken with sea otters existing in these zones upon termination of the program. Alternative 3A requires the short-term removal of sea otters from both the management zone and the translocation zone before natural range expansion is allowed. Alternative 3B requires the short-term removal of sea otters from the translocation zone only. The Service's proposed action (Alternative 3C) is to allow for the natural range expansion of sea otters through termination of the 1987 translocation program and to allow sea otters existing in the former translocation and management zones to remain there.

Public Comments Solicited

If you wish to comment, you may submit your comments and materials concerning this draft SEIS by any one of several methods:

(1) You may submit written comments and materials to the Field Supervisor, U.S. Fish and Wildlife Service, Ventura Fish and Wildlife Office, 2493 Portola Road, Suite B, Ventura, California 93003-7726;

(2) You may send comments by electronic mail (e-mail) to fw1seaotterseis@fws.gov; or

(3) You may attend a public hearing and present oral testimony and/or written testimony.

Our practice is to make comments, including names and home addresses of respondents, available for public review during regular business hours. Individual respondents may request that we withhold their home addresses from the record, which we will honor to the extent allowable by law. In some circumstances, we will withhold from the record a respondent's identity, as allowable by law. We will not consider anonymous comments. If you wish for us to withhold your name and/or address, you must state your preference prominently at the beginning of your comments. We will make all submissions from organizations or businesses, and from individuals identifying themselves as representatives or officials of organizations or businesses, available for public inspection in their entirety.

This notice is provided pursuant to Fish and Wildlife Service regulations for implementing the National Environmental Policy Act of 1969 (40 CFR 1506.6).

Dated: September 20, 2005.
Michael Fris,
Acting Manager, California/Nevada Operations Office.

[FR Doc. 05-19146 Filed 10-6-05; 8:45 am]

BILLING CODE 4310-55-P